SECURITIES AND EXCHANGE COMMISSION

Sunshine Act Meeting

TIME AND DATE: Notice is hereby given, pursuant to the provisions of the Government in the Sunshine Act, Public Law 94-409, that the Securities and Exchange Commission will hold an Open Meeting on Wednesday, March 22, 2023 at 10:00 a.m.

Place: The meeting will be webcast on the Commission's website at www.sec.gov.

Status: The meeting will begin at 10:00 a.m. (ET) and will be open to the public via webcast on the Commission's website at www.sec.gov.

MATTERS TO BE CONSIDERED:

1. The Commission will consider whether to adopt amendments to Form PF, the confidential reporting form for certain registered investment advisers to private funds, to require current reporting for certain private fund advisers and revise certain reporting requirements.

2. The Commission will consider whether to:

a. Propose to require the electronic filing or submission on the Commission's Electronic Data Gathering, Analysis, and Retrieval (EDGAR) system, using structured data where appropriate, of several forms, notices, and reports required under the Exchange Act;

b. Propose to rescind Form 19b-4(e) and require the information currently contained in Form 19b-4(e) instead to be publicly posted on the listing self-regulatory organization's website; and remove the requirement in Form 19b-4 for a manual signature and the related manual signature retention requirement;

c. Propose to amend the Commission's Informal and Other Procedures to reflect that Form 1 and Form 1-N would be submitted electronically and to make certain technical revisions;

d. Propose to amend the requirement for supplemental materials for registered clearing agencies to require that a clearing agency post to its website the required supplemental information, rather than submit such material in paper copy to the Commission;

e. Propose to allow electronic signatures in certain broker-dealer filings and proposing amendments regarding the Financial and Operational Combined Uniform Single Report (Form X-17A-5) to harmonize with other rules, make technical corrections, and provide clarifications; and

f. Propose to require that notices made pursuant to Rule 3a71-3(d)(1)(vi) be withdrawn in specified circumstances.

Contact Person for more Information: For further information and to ascertain what, if any, matters have been added, deleted or postponed, please contact Vanessa A. Countryman from the Office of the Secretary at (202) 551-5400.

Authority: 5 U.S.C. 552b.

Dated: March 15, 2023.
J. Matthew DeLesDernier,
Deputy Secretary.

[FR Doc. 2023-05694 Filed 3-16-23; 11:15 am]

BILLING CODE 8011-01-P